DEPARTMENT OF ENERGY

Federal Energy Regulatory Commission

[Project No. 12470-001]

City of Broken Bow, OK; Notice of Availability of Final Environmental Assessment

In accordance with the National Environmental Policy Act of 1969 and the Federal Energy Regulatory Commission's (Commission or FERC) regulations, 18 CFR part 380 (Order No. 486, 52 FR 47897), the Office of Energy Projects has reviewed the application for an Original Major License for the Broken Bow Re-Regulation Dam Hydropower Project (FERC Project No. 12470-001). The Broken Bow Re-Regulation Dam Project is proposed to be located on the Mountain Fork River in McCurtain County, Oklahoma, at the U.S. Army Corps of Engineers' Broken Bow Re-Regulation Dam. The project would occupy a total of 8.21 acres of federal lands administered by the Tulsa District of the Corps and 2.32 acres of federal lands within the Ouachita National Forest.

Staff prepared a final environmental assessment (EA), which analyzes the potential environmental effects of licensing the project, and concludes that licensing the project, with appropriate environmental protective measures, would not constitute a major federal action that would significantly affect the quality of the human environment.

A copy of the final EA is available for review at the Commission in the Public Reference Room or may be viewed on the Commission's Web site at http://www.ferc.gov, using the “eLibrary” link. Enter the docket number excluding the last three digits in the docket number field to access the document. For assistance, contact FERC Online Support at FERCOnlineSupport@ferc.gov or toll-free at 1-866-208-3676, or for TTY, 202-502-8659.

You may also register online at http://www.ferc.gov/docs-filing/esubscription.asp to be notified via e-mail of new filings and issuances related to this or other pending projects. For assistance, contact FERC Online Support.

For further information, please contact Aaron Liberty at 202-502-6862, or at aaron.liberty@ferc.gov.

Dated: October 18, 2011.
Kimberly D. Bose,
Secretary.

[FR Doc. 2011-27425 Filed 10-21-11; 8:45 am]

BILLING CODE 6717-01-P